SECURITIES AND EXCHANGE COMMISSION

17 CFR Part 227

Regulation Crowdfunding, General Rules and Regulations

CFR Correction

This rule is being published by the Office of the Federal Register to correct an editorial or technical error that appeared in the most recent annual revision of the Code of Federal Regulations.

In Title 17 of the Code of Federal Regulations, Parts 200 to 239, revised as of April 1, 2022, amend § 227.201 by adding paragraph (z) to read as follows:

§ 227.201 Disclosure requirements.

* * * * *

(z) Any written communication or broadcast script provided in accordance with § 227.206 or, if within 30 days of the initial filing of the offering statement, § 230.241 of this chapter.

* * * * *

[FR Doc. 2022-21290 Filed 9-28-22; 8:45 am]

BILLING CODE 0099-10-P